SURFACE TRANSPORTATION BOARD

[Docket No. FD 36095]

Palmetto Railways—Construction and Operation Exemption—in Berkeley County, SC

AGENCY: Surface Transportation Board.

ACTION: Notice of construction and operation exemption.

SUMMARY: The Board is granting an exemption from the prior approval requirements for Palmetto Railways to construct and operate a new rail line in Berkeley County, SC (the Line). The Line will be used to provide rail service to Volvo Cars of North America and other potential shippers in the Camp Hall Commerce Park. This exemption is subject to environmental mitigation conditions.

DATES: The exemption will be effective on August 21, 2019; petitions to reconsider must be filed by August 12, 2019.

ADDRESSES: All pleadings, referring to Docket No. FD 36095, must be filed with the Surface Transportation Board either via e-filing or in writing addressed to 395 E Street SW, Washington, DC 20423-0001. In addition, each filing in this proceeding must be served on Palmetto Railways' representative: Chad N. Johnston, Willoughby & Hoefer, P.A., 133 River Landing Drive, Suite 200, Charleston, SC 29492.

FOR FURTHER INFORMATION CONTACT: Sarah Fancher at (202) 245-0355. Assistance for the hearing impaired is available through the Federal Relay Service at (800) 877-8339.

SUPPLEMENTARY INFORMATION: Additional information is contained in the Board's decision served on July 22, 2019, which is available at www.stb.gov.

By the Board, Board Members Begeman, Fuchs, and Oberman.
Kenyatta Clay,
Clearance Clerk.

[FR Doc. 2019-15803 Filed 7-24-19; 8:45 am]

BILLING CODE 4915-01-P